POSTAL SERVICE

Board of Governors; Sunshine Act Meeting

TIMES AND DATES: 3:30 p.m., Monday, January 11, 2010; and 7:30 a.m., Tuesday, January 12, 2010.

PLACE: Newport Beach, California, at the Fairmont Hotel, 4500 MacArthur Boulevard.

STATUS: (Closed)

MATTERS TO BE CONSIDERED:

Monday, January 11, at 3:30 p.m. (Closed)

1. Strategic Issues.

2. Financial Matters.

3. Pricing.

4. Personnel Matters and Compensation Issues.

5. Governors' Executive Session—Discussion of prior agenda items and Board Governance.

Tuesday, January 12, at 7:30 a.m. (Closed)

1. Continuation of Monday's agenda.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2010-161 Filed 1-6-10; 11:15 am]

BILLING CODE 7710-12-P